ENVIRONMENTAL PROTECTION AGENCY

[FRL-7097-5]

Office of Environmental Justice Small Grants Program—Application Guidance FY 2002

AGENCY: Environmental Protection Agency (EPA).

ACTION: Notice.

SUMMARY: This guidance outlines the purpose, goals, and general procedures for application and award under the Fiscal Year (FY) 2002 (October 1, 2001-September 30, 2002) Environmental Justice Small Grants Program. For FY 2002, the EPA will make available approximately $1,500,000 in grant funds to eligible organizations (pending availability of funds); $500,000 of this amount is available for Superfund projects only.

DATES: The application must be delivered by close of business Friday, February 21, 2002 to your appropriate EPA regional office (listed in section III) or postmarked by midnight Friday, February 21, 2002.

ADDRESSES: For specific application delivery please contact the appropriate EPA regional office listed in section III.

FOR FURTHER INFORMATION CONTACT: Sheila Lewis, Senior Program Analyst, EPA Office of Environmental Justice, (202) 564-0152.

SUPPLEMENTARY INFORMATION:

This Guidance Includes the Following

I. Scope and Purpose of the Environmental Justice Small Grants Program

II. Eligible Applicants and Activities

III. Application Requirements

IV. Process for Awarding Grants

V. Expected Time-frame for Reviewing and Awarding Grants

VI. Project Period and Final Reports

VII. Fiscal Year 2003 Environmental Justice Small Grants Program

Appendix A: Standard Forms 424 and 424A and Completed Sample Forms

Appendix B: Copy of 40 CFR 30.27 “Allowable Costs'

Appendix C: Guidance on Lobbying Restrictions

Appendix D: Tips on Preparing an Application

Appendix E: State Single Points of Contact

Appendix F: Additional Government Application Forms

Translations Available

The Spanish translation of this application is found at the back of this document. Please note the forms are translated into Spanish but MUST be completed in English.

I. Scope and Purpose of the OEJ Small Grants Program

The purpose of this grant program is to provide financial assistance to eligible community groups (i.e., community-based/grassroots organizations, churches, or other nonprofit organizations with a focus on community-based issues) and federally recognized tribal governments that are working on or plan to carry out projects to address environmental justice issues. Preference for awards will be given to community-based/grassroots organizations that are working on local solutions to local environmental problems. Funds can be used to develop a new activity or substantially improve the quality of existing programs that have a direct impact on affected communities. All awards will be made in the form of a grant not to exceed one year.

Background

In its 1992 report, “Environmental Equity: Reducing Risk for All Communities,” the EPA found that minority and/or low-income populations may experience higher than average exposure to toxic pollutants than the general population. The EPA established the Office of Environmental Justice (OEJ) in 1992 to help these communities identify and assess pollution sources, to implement environmental awareness and training programs for affected residents, and to work with community stakeholders to devise strategies for environmental improvements.

In June of 1993, OEJ was delegated granting authority to solicit, select, supervise, and evaluate environmental justice-related projects, and to disseminate information on the projects' content and effectiveness. Fiscal year (FY) 1994 marked the first year of the OEJ Small Grants Program. The chart below shows how the grant monies have been distributed since FY 1994.

Fiscal Year | Amount ($) | Number of Awards
1994 | 500,000 | 71
1995 | 3,000,000 | 175
1996 | 2,800,000 | 152
1997 | 2,700,000 | 139
1998 | 2,500,000 | 123
1999 | 1,455,000 | 95
2000 | 899,000 | 61
2001 | 1,300,000 | 79

How Does EPA Define Environmental Justice Under the Environmental Justice Small Grants Program?

Environmental justice is the fair treatment and meaningful involvement of all people regardless of race, color, national origin, culture, education, or income with respect to the development, implementation, and enforcement of environmental laws, regulations, and policies. Fair treatment means that no one group of people, including racial, ethnic, or socioeconomic groups, should bear a disproportionate share of the negative environmental consequences resulting from industrial, municipal, and commercial operations or the execution of federal, state, local, and tribal environmental programs and policies. Meaningful involvement means that: (1) Potentially affected community residents have an appropriate opportunity to participate in decisions about a proposed activity that will affect their environment and/or health; (2) the public's contribution can influence the regulatory agency's decision; (3) the concerns of all participants involved will be considered in the decision-making process; and (4) the decision-makers seek out and facilitate the involvement of those potentially affected.

II. Eligible Applicants and Activities

A. Who May Submit Applications and May Applicants Submit More Than One?

Any affected, non-profit community organization¹ or federally recognized tribal government may submit an application upon publication of this solicitation. Applicants must be non-profit to receive these federal funds. State-recognized tribes or indigenous peoples' organizations can apply for grant assistance if they meet the definition of a nonprofit organization. “Non-profit organization” means any corporation, trust, association, cooperative, or other organization that: (1) Is operated primarily for scientific, educational, service, charitable, or similar purposes in the public interest; (2) is not organized primarily for profit; and (3) uses its net proceeds to maintain, improve, and/or expand its operations. Non-profit status may be demonstrated through designation by the Internal Revenue Service as a 501(c) organization or evidence that a state recognizes the organization's non-profit status. While state and local governments and academic institutions are eligible to receive grants, preference will be given to non-profit, community-based/grassroots organizations and federally recognized tribal governments. Preference may be given to those organizations that have not received previous grants under the Environmental Justice Small Grants Program. Individuals are not eligible to receive grants.

¹ As a result of the Lobbying Disclosure Act of 1995, EPA (and other federal agencies) may not award grants to non-profit, 501(c)(4) organizations that engage in lobbying activities.

The Environmental Justice Small Grants Program is a competitive process. To prevent preferential treatment to any single potential applicant, the Agency will offer training and/or conference calls on grant application guidelines. We encourage you to participate so that you can have your questions answered in a public forum. Call your Regional office to inquire about the scheduled dates of the special training and conference calls.

The EPA will consider only one application per applicant for a given project. Applicants may submit more than one application if the applications are for separate and distinct projects or activities. Applicants that previously received small grant funds may submit an application for FY 2002. Every application for FY 2002 is evaluated based on the merit of the proposed project in comparison to other FY 2002 applications. Past performance may be considered during the ranking and evaluation process for those applicants who have received previous grants.

B. What Types of Projects Are Eligible for Funding?

While there are many applications submitted from community groups for equally worthwhile projects, the EPA is emphasizing the need for two types of projects, multimedia and research. Multimedia projects address pollution in more than one environmental medium (e.g., air, water, etc.). Projects which are research-oriented and specific to hazardous substances are considered for funding available under the Comprehensive Environmental Response, Compensation and Liability Act (CERCLA). This Act is often referred to as “Superfund.” With the exception of grants awarded with Superfund appropriations, the Office of Environment Justice Small Grants Program awards grants on a multi-media basis.

Focus Area for Bonus Points

The Office of Environmental Justice which manages the Agency's national grants program would like to elicit grant applications in two specific areas. The Office has asked the National Environmental Justice Advisory Council to hold two public meetings focusing on: (a) Fish consumption, water quality, and environmental justice; and (b) innovative technologies for pollution prevention. Thus, as a result, we are encouraging applicants to focus their projects on one of these two topics and will add up to ten (10) bonus points for applications concerning one of these two topics.

To be considered for funding, the application must meet the criteria under either Item 1 or Item 2 below:

1. Multi-Media Requirements (use two)

Recipients of these funds must implement projects that address pollution in more than one environmental medium (e.g., air, water). To show evidence of the breadth of the project's scope, the application must identify at least two environmental statutes that the project will address. To be eligible for funding, your project must include activities outlined in the following environmental statutes:

A. Statutes

(1) Clean Water Act, section 104(b) (3): conduct and promote the coordination of research, investigations, experiments, training, demonstration, surveys, and studies relating to the causes, extent, prevention, reduction, and elimination of water pollution.

(2) Safe Drinking Water Act, section 1442(b) (3): develop, expand, or carry out a program (that may combine training, education, and employment) for occupations relating to the public health aspects of providing safe drinking water.

(3) Solid Waste Disposal Act, section 8001(a): conduct and promote the coordination of research, investigations, experiments, training, demonstrations, surveys, public education programs, and studies relating to solid waste (e.g., health and welfare effects of exposure to materials present in solid waste and methods to eliminate such effects).

(4) Clean Air Act, section 103(b) (3): conduct research, investigations, experiments, demonstrations, surveys, and studies related to the causes, effects (including health and welfare effects), extent, prevention, and control of air pollution.

(5) Toxic Substances Control Act, section 10(a): conduct research, development, monitoring, public education, training, demonstrations, and studies on toxic substances.

(6) Federal Insecticide, Fungicide, and Rodenticide Act, section 20(a): conduct research, development, monitoring, public education, training, demonstrations, and studies on pesticides.

(7) Marine Protection, Research, and Sanctuaries Act, section 203: conduct research, investigations, experiments, training, demonstrations, surveys, and studies relating to the minimizing or ending of ocean dumping of hazardous materials and the development of alternatives to ocean dumping.

B. Goals for Multi-Media Projects

In addition to the requirements outlined above, the application must also include a description of how an applicant plans to meet at least two of the three program goals listed below. See section III “Application Requirements” for more details.

(1) Identify necessary improvements in communication and coordination among all stakeholders, including existing community-based/grassroots organizations and local, state, tribal, and federal environmental programs. Facilitate communication and information exchange, and create partnerships among stakeholders to address disproportionate, high and adverse environmental exposure (e.g., workshops, awareness conferences, establishment of community stakeholder committees);

(2) Build community capacity to identify local environmental justice problems and involve the community in the design and implementation of activities to address these concerns. Enhance critical thinking, problem-solving, and active participation of affected communities. (E.g., train-the-trainer programs).

(3) Enhance community understanding of environmental and public health information systems and generate information on pollution in the community. If appropriate, seek technical experts to demonstrate how to access and interpret public environmental data (e.g., Geographic Information Systems (GIS), Toxic Release Inventories (TRI) and other databases).

2. Requirements for Research Grants Funded Under CERCLA

Recipients of these funds must implement projects that are specifically research oriented and specific to hazardous substances. The EPA's grant regulations define “research” as “systematic study directed toward fuller scientific knowledge or understanding of the subject studied,” 40 CFR 30.2(dd). The EPA has interpreted “research” to include studies that extend to socioeconomic, institutional, and public policy issues as well as the “natural” sciences. Your research project MUST meet the following criteria:

A. Eligibility

(1) CERCLA, section 311(c) authorizes EPA to fund research grants. Therefore, Superfund grants can only be awarded when the project is of a research nature. Research must relate to the detection, assessment, and evaluation of the effects on and risks to human health from hazardous substances and the detection of hazardous substances in the environment.

(2) Applicants must demonstrate that the research project relates to “hazardous substances” as that term is defined by CERCLA 101 (14). There is a list of hazardous substances at 40 CFR 302.4 which, while not exclusive, does provide useful guidance.

(3) Research funded under CERCLA 311(c) cannot relate to petroleum products excluded from the definition of hazardous substances found at CERCLA 101(14).

(4) The project must be of a research nature only, i.e., survey, research, collecting and analyzing data which will be used to expand scientific knowledge or understanding of the subject studied. Research projects, however, need not be limited to academic studies. Projects which expand the scientific knowledge or understanding, of a community, about hazardous substances issues, that effect their community, can be funded as EJ Superfund grants.

(5) The project cannot carry out training activities, other than training in research techniques. In other words CERCLA 311(c) research projects cannot be designed as outreach, technical assistance, or public education activities.

(6) The project can include conferences only if the purpose of the conference is to present research results or to gather research data.

B. Goal for Research Projects

In addition to the special research requirements for Superfund grants under CERCLA outlined above, the application must include a description of how the research projects can serve as models for other communities when confronted with similar problems. See section III “Application Requirements” for more details.

Please Note

(1) If your project includes scientific research and/or data collection, you must be prepared to submit a Quality Assurance Plan (QAP) to your EPA Project Officer prior to the beginning of the research. Multi media projects may also require a Quality Assurance Plan.

(2) CERCLA grants are financed with Superfund appropriations and must be limited to research grants under CERCLA 311(c). Do not propose projects which include activities under the “multi-media” authorities described in section 1, above, to carry out a Superfund research project.

The issues discussed above may be defined differently among applicants from various geographic regions, including areas outside the continental U.S. (Alaska, American Samoa, Guam, Hawaii, Puerto Rico, and the U.S. Virgin Islands). Each application should define its issues as they relate to the specific project. The narrative/work plan must include a succinct explanation of how the project may serve as a model in other settings and how it addresses a high-priority environmental justice issue. The degree to which a project addresses a high-priority environmental justice issue will vary and is defined by applicants according to their local environmental justice concerns.

C. How Much Money May Be Requested, and Are Matching Funds Required?

The ceiling in federal funds for an individual grant is $20,000. Applicants are not required to provide matching funds.

D. Are There Any Restrictions on the Use of the Federal Funds?

Yes. EPA grant funds can only be used for the purposes set forth in the grant agreement, and be consistent with the statutory authority for the award. Grant funds from this program cannot be used for matching funds for other federal grants, lobbying, or intervention in federal regulatory or adjudicatory proceedings. In addition, the recipient may not use these federal assistance funds to sue the federal government or any other government entity. Refer to 40 CFR 30.27, entitled “Allowable Costs” (see Appendix B). The scope of environmental justice grants may not include construction, promotional items (e.g., T-shirts, buttons, hats), and furniture purchases.

III. Application Requirements

A. What Is Required for Applications?

Proposals from eligible organizations must have the following:

1. Application for Federal Assistance (SF 424) the official form is required for all federal grants that requests basic information about the grantee and the proposed project. The applicant must submit the original application, and one copy, signed by a person duly authorized by the governing board of the applicant. Please complete part 10 of the SF 424 form, “Catalog of Federal Domestic Assistance Number” with the following information: 66.604—Environmental Justice Small Grants Program. See Appendix A for a copy of this form and a completed sample.

2. The Federal Standard Form (SF 424A) and budget detail, which provides information on your budget. For the purposes of this grant program, complete only the non shaded areas of SF 424A. See Appendix A for a copy and completed sample of a budget detail. Budget figures/projections should support your work plan/narrative. The EPA portion of each grant will not exceed $20,000. Therefore, your budget should reflect this limit on federal funds.

3. A narrative/work plan of the proposal is not to exceed five pages. Applications may not be considered if they exceed five single pages. A narrative/work plan describes the applicant's proposed project. The pages of the work plan must be letter size (8½ x 11 inches), with normal type size (12 characters per inch), and at least 1″ margins.

The narrative/work plan is one of the most important aspects of your application and (assuming that all other required materials are submitted) will be used as the primary basis for selection. Work plans must be submitted as follows:

a. A one page summary that:

• Identifies the environmental justice issue(s) to be addressed by the project;

• Identifies the Environmental Justice community/target audience;

• Identifies the environmental Statutes/Acts addressed by the project; and

• Identifies the program goal that the project will meet and how it will meet them.

b. A concise introduction that states the nature of the organization (i.e., how long it has been in existence, if it is incorporated, if it is a network, etc.), how the organization has been successful in the past, purposes of the project, the environmental justice community/target audience, projects completion plans/time frames, and expected results.

c. A concise project description that describes how the applicant is community-based and/or plans to involve the target audience in the project and how the applicant plans to meet at least two of the three program goals outlined in Section IIB: “Environmental Justice Small Grants Program Goals.” Additional credit will not be given for projects that fulfill more than two goals.

d. A conclusion discussing how the applicant will evaluate and measure the success of the project, including the anticipated benefits and challenges in implementing the project.

e. An appendix with resumes of up to three key personnel who will be significantly involved in the project.

4. Letter(s) of commitment. If your proposed project includes the significant involvement of other community organizations, your application must include letters of commitment from these organizations.

Applications that do not include the information listed above in items 1-3 and item 4, if applicable, will not be considered for an award.

Please note: Your application to this EPA program may be subject to your state's intergovernmental review process and/or the consultation requirements of section 204, Demonstration Cities and Metropolitan Development Act. Check with your state's Single Point of Contact to determine your requirements. Some states do not require this review. Applicants from American Samoa, Guam, Puerto Rico, and the U.S. Virgin Islands should also check with their Single Point of Contact. A list of the states Single Point of Contact is provided in Appendix E and you may also call your EPA regional contact (listed below) or EPA Headquarters Grants Policy, Information and Training Branch at (202) 564-5325 for additional information. Federally recognized tribal governments are not required to comply with this procedure.

B. When and Where Must Applications be Submitted?

The applicant must submit/mail one signed original application with required attachments and one copy to the primary contact at the EPA regional office listed below. The application must be delivered by close of business Friday, February 21, 2002 to your appropriate EPA regional office (listed below) or postmarked by midnight Friday, February 21, 2002. Contact your regional office for a copy of the application guidance.

Regional Contact Names and Addresses

Region 1 Connecticut, Maine, Massachusetts, New Hampshire, Rhode Island, Vermont

Primary Contact: Ronnie Harrington (617) 918-1703, harrington.veronica@epa.gov, USEPA Region 1 (SAA), 1 Congress Street—11th Floor, Boston, MA 02203-0001

Secondary Contact: Pat O'Leary (617) 565-3834, oleary.pat@epa.gov

Region 2 New Jersey, New York, Puerto Rico, U.S. Virgin Islands

Primary Contact: Natalie Loney (212) 637-3639, loney.natalie@epa.gov, USEPA Region 2, 290 Broadway, 26th Floor, New York, NY 10007

Secondary: Terry Wesley (212) 637-3576, wesley.terry@epa.gov

Region 3 Delaware, District of Columbia, Maryland, Pennsylvania, Virginia, West Virginia

Primary Contact: Reginald Harris (215) 814-2988, harris.reginald@epa.gov, USEPA Region 3 (3DA00), 1650 Arch Street, Philadelphia, PA 19103-2029

Region 4 Alabama, Florida, Georgia, Kentucky, Mississippi, North Carolina, South Carolina, Tennessee

Primary Contact: Gloria Love (404) 562-9672, love.gloria@epa.gov USEPA Region 4, 61 Forsyth Street, Atlanta, GA 30303-8960

Secondary: Cynthia Peurifoy (404) 562-9649, peurifoy.cynthia@epa.gov

Region 5 Illinois, Indiana, Michigan, Minnesota, Ohio, Wisconsin

Primary Contact: Margaret Millard (312) 353-1440, millard.margaret@epa.gov, USEPA Region 5 (T-165), 77 West Jackson Boulevard, Chicago, IL 60604-3507

Secondary: Karla Owens (312) 886-5993, owens.karla@epa.gov

Region 6 Arkansas, Louisiana, New Mexico, Oklahoma, Texas

Primary Contact: Nelda Perez (214) 665-2209, perez.nelda@epa.gov, USEPA Region 6, Fountain Place, 12th Floor, 1445 Ross Avenue (RA-D), Dallas, Texas 75202-2733

Secondary Contact: Olivia Balandran (214) 665-7257, balandran.olivia-r@epa.gov

Region 7 Iowa, Kansas, Missouri, Nebraska

Primary Contact: March Runner (913) 551-7898 or 1-800-223-0425, runner.march@epa.gov, USEPA Region 7, 901 North 5th Street (ECORA), Kansas City, KS 66101

Secondary Contact: Althea Moses (913) 551-7649 or 1-800-223-0425, moses.althea@epa.gov

Region 8 Colorado, Montana, North Dakota, South Dakota, Utah, Wyoming

Primary Contact: Nancy Reish (303) 312-6040, reish.nancy@epa.gov, USEPA Region 8 (8ENF-EJ), 999 18th Street, Suite 500, Denver, CO 80202-2466

Secondary: Jean Belille (303) 312-6556, belille.jean@epa.gov

Region 9 Arizona, California, Hawaii, Nevada, American Samoa, Guam

Primary Contact: Willard Chin (415) 744-1204, chin.willard@epa.gov, USEPA Region 9 (A-2-2), 75 Hawthorne Street, San Francisco, CA 94105

Secondary: EJ Information Line (415) 744-1565

Region 10 Alaska, Idaho, Oregon, Washington

Primary Contact: Victoria Plata (206) 553-8580, plata.victoria@epa.gov, USEPA Region 10 (CEJ-163), 1200 Sixth Avenue, Seattle, WA 98101

Secondary: Mike Letourneau (206) 553-1687, letourneau.mike@epa.gov

IV. Process For Awarding Grants

A. How Will Applications be Reviewed?

The EPA regional offices will review, evaluate, and select grant recipients. Applications will be screened to ensure that they meet all eligible activities and requirements described in Sections II and III. Applications will be disqualified if they do not meet these eligibility standards. Applications will also be evaluated by regional review panels based on the criteria outlined below.

1. Threshold Criteria. Applications that propose projects that are inconsistent with the EPA's statutory authority or the goals for the program are ineligible for funding and will not be evaluated and ranked. Regional offices will contact applicants whose proposals do not meet the threshold requirements to determine whether the proposal can be revised to meet the threshold requirements.

2. Evaluation Criteria. Proposals will be ranked using the following criteria:

a. Responsiveness of the Work plan to Environmental Justice issues affecting the community to be served.

b. Effectiveness of the project design.

c. Clarity of the Measures of Success.

d. Qualifications of Project Staff.

e. Bonus points for projects from focus area topics.

B. How Will the Final Selections be Made?

After the individual projects are reviewed and ranked, the EPA regional officials will compare the best applications and make final selections. Additional factors that the EPA will take into account include geographic and socioeconomic balance, diverse nature of the projects, cost, and projects whose benefits can be sustained after the grant is completed. Regional Administrators will select the final grants.

Please note that this is a very competitive grant's program. Limited funding is available and many grant applications are expected to be received. Therefore, the Agency cannot fund all applications. If your project is not funded, a listing of other EPA grant programs may be found in the Catalog of Federal Domestic Assistance. This publication is available on the internet at www.cdfa.gov and at local libraries, colleges, or universities.

C. How Will Applicants be Notified?

After all applications are received, the regional EPA offices will mail acknowledgments to applicants in their regions. Once applications have been recommended for funding, the EPA Regions will notify the finalists and request any additional information necessary to complete the award process. The finalists will be required to complete additional government application forms prior to receiving a grant, such as the EPA Form SF-424B (Assurances—Non-Construction Programs) and EPA Form 5700-48, the Certification Regarding Debarment, Suspension, and Other Responsibility Matters. The federal government requires all grantees to certify and assure that they will comply with all applicable federal laws, regulations, and requirements. The EPA Regional Environmental Justice Coordinators or their designees will notify those applicants whose projects are not selected for funding.

V. Expected Time-Frame For Reviewing and Awarding Grants

October 30, 2001 FY 2002 OEJ Small Grants Program Application Guidance is available and published in the Federal Register.

November 5, 2001 to February 15, 2002 Eligible grant recipients develop and complete their applications.

February 21, 2002 Applications must be delivered by close of business Friday, February 21, 2002 to your appropriate EPA regional office (listed in section III) or postmarked by midnight Friday, February 21, 2002.

February 22, 2002 to April 29, 2002 EPA regional program officials review and evaluate applications and select grant finalists

April 30, 2002 to July 26, 2002 Applicants will be contacted by the Region if their July 26, 2002 application is being considered for funding. Additional information may be required from the finalists, as indicated in section IV. The EPA regional grant offices process grants and make awards.

September 26, 2002 EPA expects to release the national announcement of the FY 2002 Environmental Justice Small Grant Recipients.

VI. Project Period and Final Reports

Activities must be completed and funds spent within the time frame specified in the grant award, usually one year. Project start dates will depend on the grant award date (most projects begin in August or September). The recipient organization is responsible for the successful completion of the project. The recipient's project manager is subject to approval by the EPA project officer. However, the EPA may not identify any particular person as the project manager.

All recipients must submit final reports for EPA approval within ninety (90) days of the end of the project period. Specific report requirements (e.g., Final Technical Report and Financial Status Report) will be described in the award agreement. The EPA will collect, review, and disseminate grantees' final reports to serve as model programs.

For further information about this program, please visit the EPA's web site at www.epa.gov/oeca/ej/ or call our hotline at 1-800-962-6215 (available in Spanish).

VII. Fiscal Year 2003 Environmental Justice Small Grants Program

A. How Can I Receive Information on the Fiscal Year 2003 (October 1, 2002 to September 30, 2003) Environmental Justice Small Grants Program?

If you wish to be placed on the national mailing list to receive information on the FY 2003 Environmental Justice Small Grants Program, email your request along with your name, organization, address, and phone number to lewis.sheila@epa.gov or mail your request along with your name, organization, address, and phone number to: U.S. Environmental Protection Agency, Environmental Justice Small Grants Program (2201A), FY 2003 Grants Mailing List, Ariel Rios Building, 1200 Pennsylvania Avenue, NW., Washington, DC 20460, 1 (800) 962-6215.

If you wish to receive information on local Environmental Justice programs, you may mail or email your request along with your name, organization, address, and phone number to the appropriate regional office listed in this application.

Thank you for your interest in our Small Grants Program and we wish you luck in the application process.

Barry E. Hill,
Director, Office of Environmental Justice.

Appendix A—Standard Forms 424 and 424A

Grant Application Packages are available on http://www.epa.gov/ogd/hqgrant/ in Adobe pdf format or WordPerfect format. To view the pdf file, you'll need the Adobe Acrobat plug-in for your browser.

BILLING CODE 6560-50-P

BILLING CODE 6560-50-C

Budget Detail
I. Personnel:
0.5 FTE Community Outreach Worker @$10.00/hour | $3,400.00
0.2 FTE Project Coordinator @$12.00/hour | 1,400.00
0.2 FTE Office Manager @$7.00/hour | 1,000.00
Total | 5,800.00
II. Fringe Benefits at 17%:
0.5 FTE Community Outreach Worker | 578.00
0.2 FTE Project Coordinator | 238.00
0.2 FTE Office Manager | 170.00
Total | 986.00
III. Travel: Local Travel @$0.26/mile | 600.00
IV. Equipment: Audio Visual and Projector Rental Typewriter/PC | 2,223.00
V. Supplies:
Paper | 250.00
Pencils/Pens | 100.00
Folders | 150.00
Total | 500.00
VI. Other: Printing, Postage, Telephone | 1,700.00
VII. Contractual: XYZ Engineering Company | 3,149.00
Grand total | 14,958.00

Appendix B—40 CFR 30.27 “Allowable Costs”

[Code of Federal Regulations] [Title 40, Volume 1, Part 1 to 49]

[Revised as of July 1, 2000]

From the U.S. Government Printing Office via GPO Access

[CITE: 40CFR30.27] [Page 311]

TITLE 40—PROTECTION OF ENVIRONMENT

CHAPTER I—ENVIRONMENTAL PROTECTION AGENCY

PART 30—UNIFORM ADMINISTRATIVE REQUIREMENTS FOR GRANTS AND AGREEMENTS WITH INSTITUTIONS OF HIGHER EDUCATION, HOSPITALS, AND OTHER NON-PROFIT ORGANIZATIONS—Table of Contents

Subpart C—Post-Award Requirements

§ 30.27 Allowable costs.

(a) For each kind of recipient, there is a set of Federal principles for determining allowable costs. Allowability of costs shall be determined in accordance with the cost principles applicable to the entity incurring the costs. Thus, allowability of costs incurred by State, local or federally-recognized Indian tribal governments is determined in accordance with the provisions of OMB Circular A-87, “Cost Principles for State and Local Governments.” The allowability of costs incurred by non-profit organizations is determined in accordance with the provisions of OMB Circular A-122, “Cost Principles for Non-Profit Organizations.” The allowability of costs incurred by institutions of higher education is determined in accordance with the provisions of OMB Circular A-21, “Cost Principles for Educational Institutions.” The allowability of costs incurred by hospitals is determined in accordance with the provisions of appendix E of 45 CFR part 74, “Principles for determining Costs Applicable to Research and Development Under Grants and Contracts with Hospitals.” The allowability of costs incurred by commercial organizations and those non-profit organizations listed in Attachment C to Circular A-122 is determined in accordance with the provisions of the Federal Acquisition Regulation (FAR) at 48 CFR part 31. In addition, EPA's annual Appropriations Acts may contain restrictions on the use of assistance funds. For example, the Acts may prohibit the use of funds to support intervention in Federal regulatory or adjudicatory proceedings.

(b) EPA will limit its participation in the salary rate (excluding overhead) paid to individual consultants retained by recipients or by a recipient's contractors or subcontractors to the maximum daily rate for level 4 of the Executive Schedule unless a greater amount is authorized by law. (Recipient's may, however, pay consultants more than this amount.) This limitation applies to consultation services of designated individuals with specialized skills who are paid at a daily or hourly rate. This rate does not include transportation and subsistence costs for travel performed; recipients will pay these in accordance with their normal travel reimbursement practices. Contracts with firms for services which are awarded using the procurement requirements in this part are not affected by this limitation.

Appendix C—Guidance on Lobbying Restrictions

The purpose of this guidance is to remind nonprofit organizations, universities, and other non-government recipients of EPA grants ² that, with very limited exceptions, you may not use Federal grant funds or your cost-sharing funds to conduct lobbying activities. The restrictions on lobbying are explained in Office of Management and Budget (OMB) Circular No. A-21, “Cost Principles for Educational Institutions,” 61 F.R. 20880 (May 8, 1996),³ and OMB Circular No. A-122, “Cost Principles for Nonprofit Organizations; ‘Lobbying’ Revision,” 49 F.R. 18260 (April 27, 1984). As a recipient of EPA funds, you must be aware of and comply with these restrictions.⁴

² The term “grant” as used in this guidance refers to grants and cooperative agreements.

³ Grants awarded before May 8, 1996, are subject to the previous version of Circular No. A-21, but the provisions on lobbying have remained essentially unchanged.

⁴ This guidance does not address the restrictions on lobbying contained in 40 CFR Part 34, the EPA regulations implementing section 319 of Pub.L. No. 101-121, known as “the Byrd Amendment,” generally prohibit recipients of Federal grants, contracts, and loans from using Federal funds for lobbying the Executive or Legislative Branches of the Federal Government in connection with a specific grant, contract, or loan. Part 34 includes detailed certification and disclosure requirements. This guidance also does not address section 18 of the Lobbying Disclosure Act of 1995, Pub. L. No. 104-65, which provides that organizations described in section 501(c)(4) of the Internal Revenue Code that engage in lobbying activities are not eligible for Federal grants or loans.

The general objective of the restrictions is to prohibit the use of appropriated funds for lobbying, publicity, or propaganda purposes designed to support or defeat legislation. The restrictions do not affect the normal sharing of information or lobbying activities conducted with your own funds (so long as they are not used to match the grant funds).

Unallowable Lobbying Activities

Under Circulars A-21 and A-122, the costs of the following activities are unallowable:

(1) Contributions, endorsements, publicity or similar activities intended to influence Federal, State or local elections, referenda, initiatives or similar processes.

(2) Direct and indirect financial or administrative support of political parties, campaigns, political action committees, or other organizations created to influence elections. Recipients may help collect and interpret information. These efforts must be for educational purposes only, however, and cannot involve political party activity or steps to influence an election.

(3) Attempts to influence the introducing, passing, or changing of Federal or State legislation through contacts with members or employees of Congress or State legislatures, including attempts to use State and local officials to lobby Congress or State legislatures. For example, you may not charge a grant for your costs of sending information to Members of Congress to encourage them to take a particular action. Also prohibited are contacts with any government official or employee to influence a decision to sign or veto Federal or State legislation. The restriction does not address lobbying at the local level.

(4) Attempts to influence the introducing, passing, or changing of Federal or State legislation by preparing, using, or distributing publicity or propaganda, i.e., grass roots lobbying efforts to obtain group action by members of the public, including attempts to affect public opinion and encourage group action. For example, the costs of printing and distributing to members of the public or the media a report produced under a grant, if intended to influence legislation, are unallowable.⁵

⁵ Circular A-122 addresses public information service costs that do not relate to lobbying. Attachment B to the Circular, at paragraph 36, makes allowable, with prior approval of the Federal agency, costs associated with pamphlets, news releases and other forms of information services if their purpose is: to inform or instruct individuals, groups or the general public; to interest individuals or groups in participating in a service program of the recipient; or to disseminate the results of sponsored and non-sponsored activities.

(5) Attending legislative sessions or committee hearings, gathering information about legislation, and similar activities, when intended to support or prepare for unallowable lobbying.

Exceptions

There are three exceptions to this list of unallowable lobbying activities in Circulars A-21 and A-122. These exceptions do not necessarily make the cost of these activities allowable; they make the costs potentially allowable. Allowability will be determined based on whether the costs in a particular case are reasonable, necessary, and allocable to the grant.

The first exception is for technical and factual (not advocacy) presentation to Congress, a State legislature, member, or staff, on a topic directly related to performance of the grant, in response to a request (not necessarily in writing) from the legislative body or individual. For requests that are not made in writing, recipients should make a note for their files documenting the requests. The information presented must be readily available and deliverable. Costs for travel, hotels, and meals related to the presentation are generally unallowable unless related to testimony at a regularly scheduled Congressional hearing at the written request of the chairperson or ranking minority member of the congressional committee.

The second exception is for actions intended to influence State legislation in order to directly reduce the actual cost of performing the Federal grant project or to protect the recipient's authority to perform the project. The exception does not apply to actions intended merely to shift costs from one source to another. For example, in response to Federal funding cutbacks, a Federally-funded recipient lobbies for State funds to replace or reduce the Federal share of project costs for next year. The cost of that lobbying activity would not be allowable because its purpose is not to directly reduce the actual cost of performing the work but merely to shift from Federal funding to State funding.

Finally, Circulars A-21 and A-122 allow lobbying costs if they are specifically authorized by law.

Indirect Cost Rate

When you seek reimbursement for indirect costs (overhead), you must identify your total lobbying costs in your indirect cost rate proposal so that the Government can avoid subsidizing lobbying. This is consistent with the circulars' requirement of disclosure of the costs spent on all unallowable activities. This requirement is necessary so that when the Government calculates the amount of an organization's indirect costs that it will pay. It does not include the costs of unallowable activities that the organization happens to count as indirect costs

Enforcement

In cases of improper lobbying with grant funds, EPA may recover the misspent money, suspend or terminate the grant, and take action to prevent the recipient from receiving any Federal grants for a certain period. Your project officer is available to handle any questions or concerns.

Appendix D—Tips on preparing an Environmental Justice Grant Application

This information is intended to help you put together a competitive proposal for the Environmental Protection Agency's (EPA) Environmental Justice Small Grants Program. Please read the Application Guidance carefully—this document is intended to enhance not replace the official FY 02 Guidance.

• Target your audience carefully

Identify a specific group or community to work with to develop a program that will give the highest return for your dollars invested.

• Build partnerships and alliances

You are strongly encouraged to enlist project involvement from community groups with similar or related goals and secure their commitment of services and/or dollars. Be sure to document this by obtaining letter(s) of commitment for your application. Initiate the partnerships early in your planning, since building alliances can take time and effort.

• Do some homework

Allow time to review the literature on environmental justice issues both within EPA and the community you work in or with. Find out what materials exist on the subject and the procedures you are planning to include in your work plan. Use this information to back up your project plans or to explain how your group activities are unique and/or creative.

• Develop a project evaluation technique

Define as carefully and precisely as possible what you want to achieve with this project and how you will test its success. Ask yourself: “what do you expect to be different once the project is complete?” Outline a plan you will use to measure the success of your activities/project.

• Develop a timeline or project accomplishment schedule

List the major tasks that you will complete to meet the goals of the project. Break these broad goals into smaller tasks and lay them out in a schedule over the twelve months of the grant period. Determine and identify in the proposal the total estimated cost for each task. You may estimate this cost by the number of personnel, materials, and other resources you will need to carry out the tasks.

• Develop a project budget with the federal portion up to $15,000 for non-Superfund or $20,000 for Superfund projects

The EPA portion of this grant should not exceed $15,000 for non-Superfund or $20,000 for Superfund projects. Divide your budget into categories such as personnel salaries/fringe benefits, travel, equipment, supplies, contract costs, other.

• Stay within the format

This makes it easier for the reviewer to read and therefore, understand your work plan. Please refer to the application requirements (pages 7-9).

• Communicate the nature of your project accurately, precisely, and concisely.

Describe exactly what you propose to do, how you are going to do it, when you are going to do it, who will benefit, and how you will know you are successful. Indicate not only what you propose but what expertise your group has for completing the project (include resumes).

Evaluation of Your Proposal

Your proposal will be evaluated by a committee of EPA Headquarters and Regional environmental justice personnel of diverse personal and professional backgrounds. Final selection is based on a variety of factors, including geographic and socioeconomic balance, diversity, cost of the project and how well the partnership benefits can be sustained after the grant is completed. Below are some common strengths and weaknesses we see in proposals.

Common Strengths

• Project proposal developed solidly from within the community.

• Broad based community support for a project that has the potential to positively affect local people.

• Project identifies established community advisory board or community group who will be involved in the project.

• Good partnership with industry, community, and environmental groups. Good coordination with a variety of community groups.

• Proposal does a good job of outlining a complex problem and approach to solving it—does not overlook any major issues or key players.

• Clear identification and background description of population to be served.

• Proposal identifies specific outputs, target accomplishments, and estimated budgets for each goal, and target dates for completion.

• Proposed project builds on existing projects or programs.

• The scope of the project can be completed in a funding year.

• Proposal clearly describes how the project will achieve the program goal(s) outlined on pages 5 and 6 of the application guidance.

• Proposal includes innovative ideas and creative thinking about how to motivate and involve youth in the communities where they live.

• Proposal includes honest discussion of challenges involved.

If applying for a Superfund project, the proposal discusses why their project is for “research” to assure it meets statutory requirements.

Common Weaknesses

• Application did not include information specifically requested in the application guidance.

• Community members do not appear to be an integral part of the project planning process.

• Not specific enough about what EPA funds will be used for. If the proposal is for a project that has a budget of more than $20,000, proposal must indicate whether other funding has been secured.

• Applicant is not a non-profit organization (see application guidance page 3).

• Program may be too ambitious for one year.

• Project funds conferences or dialogues to discuss EJ issues but does not fund activities that make direct changes in a community.

• Immediacy of need is not established.

• Methods of evaluating the success of the project unclear.

• Failure to mention other groups that applicant will work with or to secure letters of commitment.

• Proposal seeks support for developing general environmental program with little mention of environmental justice issues. The link between goals of EPA's environmental justice program and the project is not clearly stated.

• Discussion of overall mission and goals of the organization but not enough detail on how the specific project and activities will help achieve the goals.

If you are seeking other sources of funding for your project, or should your EPA application not receive funding, the document below could prove useful:

Grant Funding For Your Environmental Education Program: Strategies and Options

Prepared by The North American Association for Environmental Education in cooperation with U.S.EPA. Available for $5.00 from NAAEE, Publications Office, P.O. Box 400, Troy, OH 45373

Appendix E—State Single Points of Contact

Your application to this EPA program may be subject to your state's inter-governmental review process and/or consultation requirements under section 204, Demonstration Cities and Metropolitan Development Act. Listed below are the Single Point-of-Contacts for the states and U.S. territories with a designated Single Point-of-Contact. Please check the list to see if such review is required in your state or territory. Those stated and U.S. territories that are not listed do not have an established single point-of-contact. For further information regarding Single Points-of-Contact, please call EPA at 202-564-5362. Please also note that federally recognized tribal organizations are not required to comply with this procedure.

ARIZONA

Ms. Joni Saad, Arizona State Clearinghouse, 3800 North Central Avenue, Fourteenth Floor, Phoenix, AZ 85012, Phone: 602.280.1315, Fax: 602.280.8144

ARKANSAS

Mr. Tracy L. Copeland, Manager, State Clearinghouse, Office of Intergovernmental Services, Department of Finance and Administration, 1515 West Seventh Street, Room 412, Little Rock, AR 72203, Phone: 501.682.1074, Fax: 501.682.5206, tlcopeland@dfa.state.ar.us

CALIFORNIA

Grants Coordinator, Office of Planning and Research, 1400 Tenth Street, Room 121, Sacramento, CA 95814, Phone: 916.323.7480, Fax: 916.323.3018

DELAWARE

Charles H. Hopkins, Executive Department, Office of Budget, 540 S. Dupont Highway, 3rd Floor, Dover, DE 19901, Phone: 302.739.3323, Fax: 302.739.5661, chopkins@state.de.us

DISTRICT OF COLUMBIA

Luisa Montero-Diaz, Office of Partnerships and Grants Development, Executive Office of the Mayor, District of Columbia Government, 441 4th Street, NW, Suite 530 South, Washington, D.C. 20001, Phone: 202.727.8900, Fax: 202.727.1652, opgd.eom@dc.gov

FLORIDA

Jasmine Raffington, Florida State Clearinghouse, Department of Community Affairs, 2555 Shumard Oak Blvd., Tallahassee, FL 32399-2100, Phone: 850.922.5438, Fax: 850.414.0479, clearinghouse@dca.state.fl.us

GEORGIA

Mr. Tom Reid, III, Coordinator, Georgia State Clearinghouse, 270 Washington Street, SW, Eighth Floor, Atlanta, GA 30334, Phone: 404.656.3855, Fax: 404.656.7901, gach@mail.opb.state.ga.us

ILLINOIS

Ms. Virginia Bova, Single Point of Contact, Department of Commerce and Community Affairs, James R. Thompson Center, 100 West Randolph, Suite 3-400, Chicago, IL 60601, Phone: 312.814.6028, Fax: 312.814.8485, vbova@commerce.state.il.us

INDIANA

Ms. Frances E. Williams, State Budget Analyst, 212 State House, Indianapolis, IN 46204, Phone: 317.232.5619, Fax: 317.233.3323

IOWA

Mr. Steven R. McCann, Division for Community and Rural Development, Iowa Department of Economic Development, 200 East Grand Avenue, Des Moines, IA 50309, Phone: 515.242.4719, Fax: 515.242.4809, steve.mccann@ided.state.ia.us

KENTUCKY

Mr. Ronald W. Cook, Office of the Governor, Department of Local Government, 1024 Capital Center Drive, Suite 340, Frankfort, KY 40601-8204, Phone: 502.573.2382, Fax: 502.573.2512, ron.cook@mail.state.ky.us

LOUISIANA

Ms. Theresa Stevens, Executive Management Officer, Louisiana Department of Environmental Quality, P.O. Box 82231, Baton Rouge, LA 70884-2231, Phone: 225.7655.0733

MAINE

Ms. Joyce Benson, State Planning Office, 184 State Street, 38 State House Station, Augusta, ME 04333, Phone: 207.284.3261, Fax: 207.284.6489, joyce.benson@state.me.us

MARYLAND

Linda Janey, Manager, Clearinghouse and Plan Review Unit, Maryland Office of Planning, 301 West Preston Street, Room 1104, Baltimore, MD 21201-2305, Phone: 410.767.4490 Fax: 410.767.4480, linda@mail.op.state.md.us

MICHIGAN

Mr. Richard Pfaff, Southeast Michigan Council of Governments, 535 Griswold, Suite 300, Detroit, MI 48226, Phone: 313.961.4266, Fax: 313.961.4869, pfaff@semocog.org

MISSISSIPPI

Ms. Cathy Mallette, Clearinghouse Officer, Department of Finance and Administration, 1301 Woolfolk Building, Suite E 501, North West Street, Jackson, MS 39201, Phone: 601.359.6762, Fax: 601.359.6758

MISSOURI

Ewell Lawson, Federal Assistance Clearinghouse, Office of Administration, P.O. Box 809, Truman Building, Room 840, Jefferson City, MO 65102, Phone: 573.751.4834, Fax: 573.522.4395, igr@mail.oa.state.mo.us

NEVADA

Heather Elliott, Department of Administration, State Clearinghouse 209, E. Musser Street, Room 200, Carson City, NV 89701, Phone: 775.684.0209, Fax: 775.684.0260, helliott@govmail.state.nv.us

NEW HAMPSHIRE

Mr. Jeffery H. Taylor, Director, New Hampshire Office of State Planning, Attn: Intergovernmental Review Process, 2 ½ Beacon Street, Concord, NH 03301, Phone: 603.271.2155, Fax: 603.271.1728, jtaylor@oosp.state.nh.us

NEW MEXICO

Mr. Ken Hughes, Local Government Division, Bataan Memorial Building, Room 201, Santa Fe, NM 87503, Phone: 505.827.4370, Fax: 505.827.4948, khughes@dfa.state.nm.us

NEW YORK

New York State Clearinghouse, Division of the Budget, State Capital, Albany, NY 12224, Phone: 518.474.1605, Fax: 518.486.5617

NORTH CAROLINA

Jeanette Furney, Department of Administration, 1302 Mail Service Center, Raleigh, NC 27699-1302, Phone: 919.807.2323, Fax: 919.733.9571, jeanette.furney@ncmail.net

RHODE ISLAND

Kevin Nelson, Department of Administration, Statewide Planning Program, One Capitol Hill, Providence, RI 02908-5870, Phone: 401.222.2093, Fax: 401.222.2083, knelson@doa.state.ri.us

SOUTH CAROLINA

Omegia Burgess, Budget and Control Board, Office of State Budget, 1122 Ladies Street, 12th Floor, Columbia, SC 29201, Phone: 803.734.0494, Fax: 803.734.0645, aburgess@budget.state.s.us

TEXAS,

Denise S. Francis, Director, State Grants Team, Governor's Office of Budget and Planning, P.O. Box 12428, Austin, TX 78711, Phone: 512.305.9415, Fax: 512.936.2681, dfrancis@governor.state.tx.us

UTAH

Carolyn Wright, Utah State Clearinghouse, Governor's Office of Planning and Budget, State Capitol, Room 114, Salt Lake City, UT 84114, Phone: 801.538.1535, Fax: 801.538.1547, cwright@gov.state.ut.us

WEST VIRGINIA

Fred Cutlip, Director, Community Development Division, West Virginia Development Office, Building #6, Room 553, Charleston, WVA 25305, Phone: 304.558.4010, Fax: 304.552.3248, fcutlip@wvdo.org

WISCONSIN

Jeff Smith, Section Chief, Federal/State Relations, Wisconsin Department of Administration, 101 East Wilson Street—6th Floor, P.O. Box 7868, Madison, WI 53707, Phone: 608.266.0267, Fax: 608.267.6931, jeffrey.smith@doa.state.wi.us

AMERICAN SAMOA

Pat M. Galea'i, Federal Grants/Programs Coordinator, Office of Federal Programs, Office of the Governor/Department of Commerce, American Samoa Government, Pago Pago, American Samoa 96799, Phone: 684.633.5155, Fax: 684.633.4195, pmgaleai@samoatelco.com

GUAM

Director, Bureau of Budget and Management Research, Office of the Governor, P.O. Box 2950, Agana, Guam 96910, Phone: 011.671.472.2285, Fax: 011.472.2825, jer@ns.gov.gu

PUERTO RICO

Jose Caballero/Myra Silva, Puerto Rico Planning Board, Federal Proposal Review Office, Minillas Government Center, P.O. Box 41119, San Juan, Puerto Rico 00940-1119, Phone: 787.723.6190, Fax: 787.722.6783

NORTH MARIANA ISLANDS

Ms. Jacoba T. Seman, Federal Programs Coordinator, Office of Management and Budget, Office of the Governor, Saipan, MP 96950, Phone: 670.664.2289, Fax: 670.664.2272, omb.jseman@saipan.com

VIRGIN ISLANDS

Ira Mills, Director, Office of Management and Budget, #41 Norre Gade Emancipation Garden Station, Second Floor, Saint Thomas, VI 00802, Phone: 340.774.0750, Fax: 340.776.0069, Irmills@usvi.org

BILLING CODE 6560-50-P

Appendix F—Additional Government Application Forms

[FR Doc. 01-27591 Filed 11-2-01; 8:45 am],

BILLING CODE 6560-50-C